DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, October 22, 2013, 08:00 a.m. to October 22, 2013, 04:00 p.m., Hotel Kabuki, 1625 Post Street, San Francisco, CA, 94115 which was published in the Federal Register on September 10, 2013, 78 FR 55266.

The meeting will be held on November 25, 2013, 08:00 a.m. to November 25, 2013, 04:00 p.m., National Institutes of Health, Two Democracy Plaza, 6707 Democracy Boulevard, Bethesda, MD, 20892. The meeting is closed to the public.

Dated: November 5, 2013.
David Clary,
Program Analyst, Office of Federal Advisory Committee Policy.

[FR Doc. 2013-26898 Filed 11-8-13; 8:45 am]

BILLING CODE 4140-01-P